DEPARTMENT OF JUSTICE

[OMB Number 1117-0001]

Agency Information Collection Activities; Proposed eCollection eComments Requested; Report of Theft or Loss of Controlled Substance and Report of Loss or Disappearance of Listed Chemicals

AGENCY: Drug Enforcement Administration, Department of Justice.

ACTION: 30-Day notice.

SUMMARY: The Drug Enforcement Administration (DEA), Department of Justice (DOJ), will be submitting the following information collection request to the Office of Management and Budget (OMB) for review and approval in accordance with the Paperwork Reduction Act of 1995. The proposed information collection was previously published in the Federal Register, on September 20, 2023, allowing a 60-day comment period.

DATES: Comments are encouraged and will be accepted for 30 days until December 18, 2023.

FOR FURTHER INFORMATION CONTACT: If you have comments especially on the estimated public burden or associated response time, suggestions, or need a copy of the proposed information collection instrument with instructions or additional information, please contact: Courtney E. Mallon, Office of Diversion Control, Drug Enforcement Administration; Mailing address: 8701 Morrissette Drive, Springfield, Virginia 22152; Telephone: (202) 598-6812, email: DPW@dea.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1117-0001. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Report of Theft or Loss of Controlled Substances and Report of Loss or Disappearance of Listed Chemical.

3. Agency form number, if any, and the applicable component of the Department of Justice sponsoring the collection: DEA Form 106 and DEA Form 107. The applicable component within the Department of Justice is the Drug Enforcement Administration, Diversion Control Division.

4. Affected public who will be asked or required to respond, as well as a brief abstract: Affected Public: (Primary): Business or other for-profit. Affected public (Other): Not-for-profit institutions; Federal, State, local, and tribal governments. Abstract: In accordance with current 21 CFR 1301.74, a DEA registrant must notify the Field Division Office of the Administration in writing, of any theft or significant loss of any controlled substance within one business day of discovery of the theft or loss, and must complete and send to the DEA a DEA Form 106 upon determination of a theft or significant loss. The DEA Form 106 is designed to provide a uniform method of reporting and recording thefts and losses of controlled substances as required by 21 U.S.C. 827, 21 CFR 1301.74(c) and 1301.76(b). The form is entitled “Report of Theft or Loss of Controlled Substances” and it is used by the DEA to help determine the quantities and types of controlled substances that are stolen or lost. It may also serve as a record of the theft or loss for the registrant. DEA is modifying this collection to include DEA Form 107 as DEA Form 107 is more aligned with DEA Form 106. DEA Form 107 is used by regulated persons involved in reporting unusual or excessive loss or disappearance of a listed chemical. Each regulated person must report to the Special Agent in Charge of the DEA Diversional Office for the area in which the regulated person making the report is located any unusual or excessive loss or disappearance of a listed chemical under the control of the regulated person.

5. Obligation to Respond: Mandatory per 21 CFR 1301.74.

6. Total Estimated Number of Respondents: 10,547.

7. Estimated Time per Respondent: 20 minutes.

8. Frequency: Twice a year.

9. Total Estimated Annual Time Burden: 10,881 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: November 7, 2023.
Darwin Arceo,
Department Clearance Officer for PRA, U.S. Department of Justice.

[FR Doc. 2023-25328 Filed 11-15-23; 8:45 am]

BILLING CODE 4410-09-P